DEPARTMENT OF THE INTERIOR

Geological Survey

[GX23RB00UU60900]

Agency Information Collection Activities; Science Communication Strategies Related to Mining Activities

AGENCY: U.S. Geological Survey, Department of the Interior.

ACTION: Notice of information collection; request for comment.

SUMMARY: In accordance with the Paperwork Reduction Act of 1995 (PRA), the U.S. Geological Survey (USGS) is proposing a new information collection.

DATES: Interested persons are invited to submit comments on or before November 27, 2023.

ADDRESSES: Written comments and recommendations for the proposed information collection should be sent within 30 days of publication of this notice to www.reginfo.gov/public/do/PRAMain. Find this particular information collection by selecting “Currently under Review—Open for Public Comments” or by using the search function. Please provide a copy of your comments to USGS, Information Collections Clearance Officer, 12201 Sunrise Valley Drive, MS 159, Reston, VA 20192 or by email to gs-info_collections@usgs.gov. Please reference OMB Control Number 1028-NEW Mining Communications in the subject line of your comments.

FOR FURTHER INFORMATION CONTACT: To request additional information about this information collection request (ICR), contact Rudy Schuster by email at schusterr@usgs.gov, or by telephone at 970-226-9165. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA, 44 U.S.C. 3501 et seq. and 5 CFR 1320.8(d)(1), we provide the general public and other federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on June 15, 2023 (88 FR 39271). No comments were received.

As part of our continuing effort to reduce paperwork and respondent burdens, we are again soliciting comments from the public and other federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: The USGS has a history of conducting research on uranium-bearing breccia pipe deposits to address data gaps related to the potential effects of uranium exploration and mining activities in the Grand Canyon watershed, its people, wildlife, and water resources. The USGS also recognizes a need to constantly update methods for communicating science to partners and non-scientists. The project proposed herein seeks to identify a path toward efficiently providing data and results to decision makers, stakeholders, partners, and the public to maximize the utility of science products. This research will advance USGS capability by documenting the efficacy of existing mining-related science communication efforts to partners and will advance USGS knowledge and use of communication methods to deliver actionable science to non-science audiences in the future. Information will be collected via semi-structured interviews conducted in person with members of the general public in the Grand Canyon watershed.

Title of Collection: Science communication strategies related to mining activities.

OMB Control Number: 1028-NEW.

Form Number: None.

Type of Review: NEW.

Respondents/Affected Public: General public (2), State (6), and private businesses (3).

Total Estimated Number of Annual Respondents: 11.

Total Estimated Number of Annual Responses: 11.

Estimated Completion Time per Response: 45 minutes.

Total Estimated Number of Annual Burden Hours: 9 hours.

Respondent's Obligation: Voluntary.

Frequency of Collection: One time.

Total Estimated Annual Nonhour Burden Cost: None.

An agency may not conduct or sponsor, nor is a person required to respond to, a collection of information unless it displays a currently valid OMB control number.

The authority for this action is the PRA (44 U.S.C. 3501 et seq.).

Rudolph Schuster,
Branch Chief, Social & Economic Analysis, USGS.

[FR Doc. 2023-23654 Filed 10-25-23; 8:45 am]

BILLING CODE 4388-11-P